FEDERAL COMMUNICATIONS COMMISSION

[Report No. 2425]

Petitions for Reconsideration and Clarification of Action in Rulemaking Proceedings; Correction ¹

July 24, 2000.

¹ This is a correction to Public Notice Report #2425, released on July 13, 2000, published in the Federal Register July 19, 2000, 65 FR 44786, to include two additional petitions which were inadvertently omitted from the listing for CC Docket Nos. 97-21 and 96-45. Therefore the dates established in the initial Federal Register publication for filing oppositions and replies will remain the same.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by August 3, 2000. See Section 1.4(b)(1) of the Commission's rules (47 CFR 1.4(b)(1)). Replies to an opposition must be filed by August 14, 2000.

Subject: Changes to the Board of Directors of the National Exchange Carrier Association, Inc. (CC Docket No. 97-21).

Federal-State Joint Board on Universal Service (CC Docket No. 96-45).

Number of Petitions Filed: 3.

Subject: Reexamination of the Comparative Standards for Noncommercial Educational Applicants (MM Docket No. 95-31).

Number of Petitions Filed: 17.

Subject: Amendment of the Commission's Rules to Establish New Personal Communications Services, Narrowband PCS (GEN Docket No. 90-314, ET Docket No. 92-100).

Implementation of Section 309(j) of the Communications Act-Competitive Bidding, Narrowband PCS (PP Docket No. 93-253).

Number of Petitions Filed: 2.

Federal Communications Commission.

Magalie Roman Salas,
Secretary.

[FR Doc. 00-19299 Filed 8-3-00; 8:45 am]

BILLING CODE 6712-01-P